DEPARTMENT OF ENERGY

Federal Energy Regulatory Commission

[Docket No. RP01-541-000]

Iroquois Gas Transmission System, L.P.; Notice of Tariff Filing and Annual Charge Adjustment

September 6, 2001.

Take notice that on August 31, 2001, Iroquois Gas Transmission System, L.P. (Iroquois) tendered for filing as part of its FERC Gas Tariff, First Revised Volume No. 1, Third Revised Sheet No. 4A . The proposed effective date of this revised tariff sheet is October 1, 2001.

Iroquois states that, pursuant to Section 154.02 of the Commission's regulations and Section 12.2 of the General Terms and Conditions of its tariff, it is filing the referenced tariff sheet to reflect a decrease in the Annual Charge Adjustment surcharge to $0.0021 per Dth.

Iroquois states that copies of its filing were served on all jurisdictional customers and interested state commissions.

Any person desiring to be heard or to protest said filing should file a motion to intervene or a protest with the Federal Energy Regulatory Commission, 888 First Street, NE., Washington, DC 20426, in accordance with sections 385.214 or 385.211 of the Commission's Rules and Regulations. All such motions or protests must be filed on or before September 13, 2001. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-22879 Filed 9-11-01; 8:45 am]

BILLING CODE 6717-01-P